DEPARTMENT OF ENERGY

Federal Energy Regulatory Commission

Combined Notice of Filings

Take notice that the Commission has received the following Natural Gas Pipeline Rate and Refund Report filings:

Filings Instituting Proceedings

Docket Numbers: RP25-194-000.

Applicants: Northwest Pipeline LLC.

Description: 4(d) Rate Filing: Negotiated Rate Service Agreement for Puget—Olympia to be effective 12/4/2024.

Filed Date: 11/19/24.

Accession Number: 20241119-5129.

Comment Date: 5 p.m. ET 12/2/24.

Docket Numbers: RP25-195-000.

Applicants: Empire Pipeline, Inc.

Description: 4(d) Rate Filing: Negotiated Rate—Amendment VI to F12597 to be effective 1/1/2025.

Filed Date: 11/20/24.

Accession Number: 20241120-5024.

Comment Date: 5 p.m. ET 12/2/24.

Docket Numbers: RP25-196-000.

Applicants: Colorado Interstate Gas Company, L.L.C.

Description: 4(d) Rate Filing: Remove Non-Conforming Agreement (RMM 216137) to be effective 1/1/2025.

Filed Date: 11/20/24.

Accession Number: 20241120-5078.

Comment Date: 5 p.m. ET 12/2/24.

Docket Numbers: RP25-197-000.

Applicants: El Paso Natural Gas Company, L.L.C.

Description: 4(d) Rate Filing: Article 11.2(a) Inflation Adjustment Filing 2025 to be effective 1/1/2025.

Filed Date: 11/20/24.

Accession Number: 20241120-5082.

Comment Date: 5 p.m. ET 12/2/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-72-002.

Applicants: Cranberry Pipeline Corporation.

Description: 284.123(g) Rate Filing: Cranberry Pipeline Amended Settlement of Rates to be effective 5/20/2024.

Filed Date: 11/20/24.

Accession Number: 20241120-5028.

Comment Date: 5 p.m. ET 12/11/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 20, 2024.
Carlos D. Clay,
Acting Deputy Secretary.

[FR Doc. 2024-27708 Filed 11-25-24; 8:45 am]

BILLING CODE 6717-01-P